DEPARTMENT OF LABOR

Occupational Safety and Health Administration

Agency Information Collection Activities of the Office of Management and Budget (OMB) Control Numbers Under the Paperwork Reduction Act

AGENCY: Occupational Safety and Health Administration (OSHA), Labor.

ACTION: Notice, announcement of the Office of Management and Budget's (OMB) approval of information collection requirements.

SUMMARY: The Occupational Safety and Health Administration announces that OMB continues its approval for a number of information collection requirements found in a number of OSHA's standards and regulations. OSHA sought approval of these requirements under the Paperwork Reduction Act of 1995 (PRA), and, as required by that Act, is announcing the approval numbers and expiration dates for these requirements and regulations.

DATES: This notice is effective June 12, 2017.

FOR FURTHER INFORMATION CONTACT: Theda Kenney or Todd Owen, Directorate of Standards and Guidance, Occupational Safety and Health Administration, U.S. Department of Labor, Room N-3609, 200 Constitution Avenue NW., Washington, DC 20210, telephone: (202) 693-2222.

SUPPLEMENTARY INFORMATION: In a series of Federal Register notices, the Agency announced its requests to OMB to renew its current extensions of approvals for various information collection (paperwork) requirements in its safety and health standards pertaining to general industry, shipyard employment, and the construction industry (i.e., 29 CFR parts 1905, 1910, 1915, 1917, 1918, and 1926), and regulations pertaining to Occupational Safety and Health State Plans, and OSHA Strategic Partnership Program for Worker Safety and Health. In these Federal Registerannouncements, the Agency provided 60-day comment periods for the public to respond to OSHA's burden hour and cost estimates.

In accord with the PRA (44 U.S.C. 3501-3520), OMB approved these information collection requirements. The table below provides the following information for each of these information collection requirements approved by OMB: The title of the Federal Register notice; The Federal Register reference (date, volume, and leading page); OMB's Control Number; and the new expiration date.

Title of the information collection request | Date of Federal Register Publication, Federal Register Reference, and OSHA docket No. | OMB control No. | Expiration date
4,4'-Methylenedianiline (MDA) for General Industry (29 CFR 1910.1050) | March 11, 2016 81 FR 12966 Docket No. OSHA-2012-0040 | 1218-0184 | 07/31/2019
Access to Employee Exposure and Medical Records (29 CFR 1910.1020) | September 12, 2016 81 FR 62766 Docket No. OSHA-2009-0043 | 1218-0065 | 04/30/2020
Additional Requirements for Special Dipping and Coating Operations (Dip Tanks) (29 CFR 1910.157(e)(3)) | March 11, 2016 81 FR 12967 Docket No. OSHA-2010-0020 | 1218-0237 | 01/31/2020
Aerial Lifts Standard (29 CFR 1926.453) | September 29, 2016 81 FR 67006 Docket No. OSHA-2009-0045 | 1218-0216 | 04/30/2020
Asbestos in General Industry Standard | July 21, 2016 81 FR 47440 Docket No. OSHA-2010-0018 | 1218-0133 | 04/30/2020
Benzene (29 CFR 1910.1028) | April 19, 2016 81 FR 23008 Docket No. OSHA-2013-0008 | 1218-0129 | 08/31/2019
Construction Fall Protection Systems Criteria, Practices, and Training Requirements | September 30, 2016 81 FR 67397 Docket No. OSHA-2010-0008 | 1218-0197 | 04/30/2020
Cranes and Derricks in Construction Standard (29 CFR part 1926, subpart CC) | October 4 , 2016 81 FR 68456 Docket No. OSHA-2013-0021 | 1218-0261 | 04/30/2020
Crawler, Locomotive, and Truck Cranes Standard (29 CFR 1910.180) | September 7, 2016 81 FR 61715 Docket No. OSHA-2010-0015 | 1218-0221 | 04/30/2020
Definition and Requirements for a Nationally Recognized Testing Laboratory (29 CFR 1910.7) | December 28, 2016 81 FR 95650 Docket No. OSHA-2010-0007 | 1218-0147 | 04/30/2020
Derricks (29 CFR 1910.181) | June 10, 2016 81 FR 37644 Docket No. OSHA-2010-0016 | 1218-0222 | 01/31/2020
Formaldehyde Standard (29 CFR 1910.1020 and 1910.1048) | August 1, 2016 81 FR 50563 Docket No. OSHA-2009-0041 | 1218-0145 | 04/30/2020
Occupational Noise Exposure Standard (29 CFR 1910.95) | October 4, 2016 81 FR 68457 Docket No. OSHA-2010-0017 | 1218-0048 | 03/31/2020
Occupational Safety and Health Administration Conflict of Interest and Disclosure | September 29, 2016 81 FR 67004 Docket No. OSHA-2009-0042 | 1218-0255 | 04/30/2020
Personal Protective Equipment (PPE) for General Industry (29 CFR part 1910, subpart I) | March 2, 2016 81 FR 10915 Docket No. OSHA-2009-0028 | 1218-0205 | 02/29/2020
Personal Protective Equipment (PPE) for Shipyard Employment (29 CFR part 1915) | December 10, 2015 80 FR 76712 Docket No. OSHA-2012-0038 | 1218-0215 | 06/30/2019
Process Safety Management of Highly Hazardous Chemicals (29 CFR 1910.119) | March 21, 2016 81 FR 15130 Docket No. OSHA-2012-0039 | 1218-0200 | 08/31/0219
Regulations Containing Procedures for Handling of Retaliation Complaints | February 17, 2016 81 FR 8103 Docket No. OSHA-2012-0026 | 1218-0236 | 03/31/2020
Student Data Form | September 29, 2016 81 FR 67010 Docket No. OSHA-2010-0022 | 1218-0172 | 04/30/2020
Welding, Cutting, and Brazing (29 CFR part 1910, subpart Q) | September 29, 2016 81 FR 67003 Docket No. OSHA-2010-0037 | 1218-0207 | 01/31/2020

In accordance with 5 CFR 1320.5(b), an agency cannot conduct, sponsor or require a response to a collection of information unless the collection displays a valid OMB control number and the Agency informs respondents that they need not respond to the collection of information.

Authority and Signature

Dorothy Dougherty, Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on June 5, 2017.
Dorothy Dougherty,
Deputy Assistant Secretary of Labor for Occupational Safety and Health.

[FR Doc. 2017-12095 Filed 6-9-17; 8:45 am]

BILLING CODE 4510-26-P